DEPARTMENT OF VETERANS AFFAIRS

[OMB Control No. 2900-0789]

Agency Information Collection Activity: (Application Requirements To Receive VA Dental Insurance Plan Benefits under 38 CFR 17.169)

AGENCY: Veterans Health Administration, Department of Veterans Affairs.

ACTION: Notice.

SUMMARY: In compliance with the Paperwork Reduction Act (PRA) of 1995 (44 U.S.C. 3501-3521), this notice announces that the Veterans Health Administration (VHA), Department of Veterans Affairs, will submit the collection of information abstracted below to the Office of Management and Budget (OMB) for review and comment. The PRA submission describes the nature of the information collection and its expected cost and burden; it includes the actual data collection instrument.

DATES: Comments must be submitted on or before February 9, 2017.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0789” in any correspondence.

FOR FURTHER INFORMATION CONTACT: Cynthia Harvey-Pryor, Enterprise Records Service (005R1B), Department of Veterans Affairs, 810 Vermont Avenue NW., Washington, DC 20420, (202) 461-5870 or email cynthia.harvey-pryor@va.gov. Please refer to “OMB Control No. 2900-0789.”

SUPPLEMENTARY INFORMATION:

Titles: VA Dental Insurance Plan (VADIP) Fact Sheet.

OMB Control Number: 2900-0789.

Type of Review: Extension of a currently approved collection.

Abstract: Department of Veteran Affairs Dental Insurance Reauthorization Act of 2016 (Pub. L. 114-218) requires VA to establish and administer a dental insurance plan for Veterans enrolled in VA health care and survivors and dependents of Veterans eligible for VA's Civilian Health and Medical Program (CHAMPVA). Public Law 114-218 requires VA to contract with a private insurer (using the Federal contracting process) to offer dental insurance, and the private insurer will be responsible for virtually all aspects of the administration of the dental insurance program. VA's role will primarily be to form the contract with the private insurer and verify eligibility of veterans and certain survivors and dependents. Enrolled veterans and certain survivors and dependents of veterans will be required to complete an application to be enrolled in this dental insurance program, and will be required to submit certain documentation/information for certain types of disenrollment requests and for appeals of claims decisions. VA will not prescribe the form these collections are to take, but is prescribing regulations that nonetheless require these collections. These collections are required to fulfill VA's obligations under Public Law 114-218.

Affected Public: Individuals or households.

Estimated Annual Burden: 38,350.

Estimated Average Burden per Respondent: 76 minutes

Frequency of Response: Annually.

Estimated Annual Responses: 283,500.

By direction of the Secretary.
Cynthia Harvey-Pryor,
Program Specialist, Office of Privacy and Records Management, Department of Veterans Affairs.

[FR Doc. 2017-00208 Filed 1-9-17; 8:45 am]

BILLING CODE 8320-01-P